ENVIRONMENTAL PROTECTION AGENCY

[EPA-HQ-OLEM-2020-0521; FRL—10021-73-OMS]

Information Collection Request Submitted to OMB for Review and Approval; Comment Request; Survey of State Emergency Response Commissions (SERCs)

AGENCY: Environmental Protection Agency (EPA).

ACTION: Notice.

SUMMARY: The Environmental Protection Agency has submitted an information collection request (ICR), Survey of State Emergency Response Commissions (EPA ICR Number 2660.01, OMB Control Number 2050-NEW) to the Office of Management and Budget (OMB) for review and approval in accordance with the Paperwork Reduction Act. This is a request for approval of a new collection. Public comments were previously requested via the Federal Register (on November 12, 2020 during a 60-day comment period. This notice allows for an additional 30 days for public comments. A fuller description of the ICR is given below, including its estimated burden and cost to the public. An agency may not conduct or sponsor and a person is not required to respond to a collection of information unless it displays a currently valid OMB control number.

DATES: Additional comments may be submitted on or before April 19, 2021.

ADDRESSES: Submit your comments to EPA, referencing Docket ID No. EPA-HQ-OLEM-2020-0521, online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Sicy Jacob, Regulations Implementation Division, Office of Emergency Management, Mail Code 5104A, Environmental Protection Agency, 1200 Pennsylvania Ave., NW, Washington, DC 20460; telephone number: (202) 564-8019; email address: jacob.sicy@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The EPA's Office of Emergency Management is conducting a survey of the State Emergency Response Commissions (SERCs) in each state and territory of the U.S. The SERCs were created under the Emergency Planning and Community Right-to-Know Act (EPCRA) of 1986. The purpose of this survey is to gather information on how EPCRA is being implemented, best practices, challenges, and gaps in meeting the requirements. After the survey is completed, EPA is planning to publish the results of the survey, including success stories and lessons learned, to share with all states and territories.

EPCRA established State Emergency Response Commissions (SERCs) and Local Emergency Planning Committees (LEPCs) and assigned implementation responsibilities to these state and local agencies. EPCRA required SERCs to appoint LEPCs within a few months after the enactment of EPCRA and to supervise their activities. Importantly, SERCs should ensure that LEPCs develop local emergency response plans for their community, review the plans, and make suggestions to coordinate the plans with neighboring LEPCs. In addition, SERCs are required to collect and manage hazardous chemical information from facilities and to provide access to the public on the presence of hazardous chemicals in the community.

As part of the America's Water Infrastructure Act (AWIA), promulgated in October 2018, additional coordination and provision of information responsibilities were established for SERCs and LEPCs under EPCRA. Specifically, these EPCRA amendments establish notification and information coordination with State Drinking Water Agency and Community Water Systems to ensure that these agencies prepare and protect the community from contamination of their water.

The data collected in this survey will inform the Agency about how SERCs are fulfilling the requirements of the law, specifically in sharing key information among all appropriate State organizations and managing LEPCs and their activities. Additionally, the results of the survey will help to identify areas where SERCs are having difficulty meeting their requirements, the specific challenges they are facing, and will identify areas where EPA can better assist SERCs and LEPCs in implementing EPCRA and its amendments under AWIA.

Form Numbers: None.

Respondents/affected entities: State Emergency Response Commissions.

Respondent's obligation to respond: Voluntary.

Estimated number of respondents: 19 (total).

Frequency of response: Once.

Total estimated burden: 76 hours (per year). Burden is defined at 5 CFR 1320.03(b).

Total estimated cost: $5,301.00 (per year), includes $0.00 annualized capital or operation & maintenance costs.

Changes in the Estimates: This is a New ICR, so there is no change in burden.

Courtney Kerwin,
Director, Regulatory Support Division.

[FR Doc. 2021-05653 Filed 3-18-21; 8:45 am]

BILLING CODE 6560-50-P